ENVIRONMENTAL PROTECTION AGENCY

40 CFR Parts 174 and 180

[EPA-HQ-OPP-2020-0053; FRL-10021-44]

Receipt of Pesticide Petitions Filed for Residues of Pesticide Chemicals in or on Various Commodities March 2021

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before April 21, 2021.

ADDRESSES: Submit your comments, identified by docket identification (ID) number and the pesticide petition (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Notice of Filing—Amended Tolerance Exemptions for Inerts (Except PIPS) Amended

1. PP IN-11422. (EPA-HQ-OPP-2021-0161). Sasol Chemicals (USA) LLC, 12120 Wickchester Ln., Houston, Texas 77224, requests to amend the exemption from the requirement of a tolerance for “α-alkyl-ω-hydroxypoly (oxypropylene) and/or poly (oxyethylene) polymers where the alkyl chain contains a minimum of six carbons” under 40 CFR 180.910, 180.930, 180.940 and 180.960 to add Alcohols, C20-30, ethoxylated (CAS Reg. No. 68439-48-5); Alcohols, C16-18, distn. residues, ethoxylated, propoxylated (CAS Reg. No. 2409830-33-5); Alcohol, C22, ethoxylated (CAS Reg. No. 26636-40-8); Poly(oxy-1,2-ethanediyl), α-(2-butyloctyl)-ω-hydroxy- (CAS Reg. No. 60636-37-5); 2-octyldodecan-1-ol, ethoxylated (CAS Reg. No. 32128-65-7); and Alcohols, C16-20, branched, ethoxylated (CAS Reg. No. 161133-70-6). The petitioner believes no analytical method is needed because it is not required for an exemption from the requirement of a tolerance. Contact: RD.

2. PP IN-11435. (EPA-HQ-OPP-2021-0164). Technology Sciences Group Inc., 1150 18th Street NW, Suite 1000, Washington, DC 20036 on behalf of Mason Chemical Company, (9075 Centre Point Dr., Suite 400, West Chester, OH 45069) requests to amend an exemption from the requirement of a tolerance for residues of C10-C18-alkyl dimethyl amine oxides (including 1-Dodecanamine, N,Ndimethyl-, N-oxide (CAS Reg. No. 1643-20-5); N,N-Dimethyl-1-octadecanamine-N-oxide (CAS Reg. No. 2571-88-2); 1-Decanamine, N,N-dimethyl-, N-oxide (CAS Reg. No. 2605-79-0); 1-Tetradecanamine, N,N-dimethyl-, N-oxide (CAS Reg. No. 3332-27-2); Amines, coco alkyl dimethyl, oxides (CAS Reg. No. 61788-90-7); Amines, C12-18-alkyldimethyl, N-oxides (CAS Reg. No. 68955-55-5); (C10-C16-Alkyl)dimethylamines, N-oxides (CAS Reg. No.70592-80-2); 1-Hexadecanamine, N,N-dimethyl-, N-oxide (CAS Reg. No. 7128-91-8); Amines, C10-18-alkyldimethyl, N-oxides (CAS Reg. No. 85408-48-6); Amines, C12-16-alkyldimethyl, N-oxides (CAS Reg. No. 85408-49-7)) to include the use as inert ingredients used as surfactants and foaming agents in antimicrobial formulations applied to food-contact surfaces in public eating places, dairy-processing equipment, and food-processing equipment and utensils under 40 CFR 180.940(a). The petitioner believes no analytical method is needed because it is not required for an exemption from the requirement of a tolerance. Contact: RD.

3. PP IN-11504. (EPA-HQ-OPP-2021-0173). CJB Applied Technologies, LLC, 1105 Innovation Way, Valdosta, GA 31603, requests to amend an exemption from the requirement of a tolerance for residues of benzyl alcohol (CAS Reg. No. 100-51-6) when used as a pesticide inert ingredient (adjuvant) in pesticide formulations under 40 CFR 180.910 with a limit of 60% in formulation. The petitioner believes no analytical method is needed because it is not required for an exemption from the requirement of a tolerance. Contact: RD.

4. PP IN-11526. (EPA-HQ-OPP-2021-0172). International Specialty Products, an Ashland Inc. Company (Ashland), 1005 US 202/206, Bridgewater, NJ 08807, requests to amend an exemption from the requirement of a tolerance for residues of N-(n-octyl)-2-pyrrolidone (CAS Reg. No. 2687-94-7) when used as a pesticide inert ingredient (solvent) in pesticide formulations under 40 CFR 180.1130 in formulations containing prothioconazole at a concentration not to exceed 15%. The petitioner believes no analytical method is needed because it is not required for an exemption from the requirement of a tolerance. Contact: RD.

B. Amended Tolerance Exemptions for PIPS

1. PP 1G8896. (EPA-HQ-OPP-2021-0170). Southern Gardens Citrus Nursery, LLC, 1820 County Rd. 833, Clewiston, FL 33440, request amend a temporary exemption from the requirement of a tolerance in 40 CFR 174.535 for residues of the plant-incorporated protectant (PIP) spinach defensin proteins in or on citrus by renewing and extending it. The petitioner believes no analytical method is needed because an exemption from the requirement is being sought. Contact: BPPD.

C. New Tolerance Exemptions for Inerts (Except PIPS)

1. PP IN-11408. (EPA-HQ-OPP-2021-0160). S.A. Ajinomoto Omnichem N.V., Cooppallaan, 91 B-9230, Wetteren, Belgium, requests to establish an exemption from the requirement of a tolerance for residues Styrene-maleic anhydride ethyl amine salt copolymer, with a minimum number average molecular weight of 2,894 daltons, when used as an inert ingredient in pesticide formulations under 40 CFR 180.960. The petitioner believes no analytical method is needed because it is not required for an exemption from the requirement of a tolerance. Contact: RD.

2. PP IN-11424. (EPA-HQ-OPP-2021-0197). Exponent, Inc., 1150 Connecticut Ave. NW, Suite 1100, Washington, DC 20036 on behalf of Croda Inc., (300-A Columbus Circle, Edison, NJ 08837, EPA Company Number 94085) requests to establish an exemption from the requirement of a tolerance for a cluster of Low Risk Polymers, Alkoxylated C8-C18 Saturated and Unsaturated Alcohol and Adipic Acid (AASUAA), (CAS Reg. No. 397247-05-1, 227755-70-6, 397247-06-2, 1065234-83-4, and 497157-72-9) with a minimum number average molecular weight (in amu) of 1,100 when used as a pesticide inert ingredient (surfactant or adjuvant) in pesticide formulations under 40 CFR 180.960. The petitioner believes no analytical method is needed because it is not required for an exemption from the requirement of a tolerance. Contact: RD.

3. PP IN-11434. (EPA-HQ-OPP-2021-0192). The Dow Chemical Company, 715 E Main Street, Midland, MI 48674, requests to establish an exemption from the requirement of a tolerance for residues of 2-Propenoic acid, telomer with N-(1,1-dimethylethyl)-2-propenamide, sodium 2-methyl-2-[(1-oxo-2-propen-1-yl)amino]-1-propanesulfonate (1:1) and sodium sulfite (1:1), sodium salt, (CAS Reg. No. 115035-53-5) with a minimum number average molecular weight (in amu) of 6,200 Daltons when used as a pesticide inert ingredient (dispersant) in pesticide formulations under 40 CFR 180.960. The petitioner believes no analytical method is needed because it is not required for an exemption from the requirement of a tolerance. Contact: RD.

4. PP IN-11438. (EPA-HQ-OPP-2021-0198). Spring Regulatory Sciences, 6620 Cypresswood Dr., Suite 250, Spring, TX 77379 on behalf of FB Sciences, Inc. 153 N Main St., Ste 100, Collierville, TN 38017, requests to establish an exemption from the requirement of a tolerance in 40 CFR part 180. for residues of Complex Polymeric Polyhydroxy Acids (CPPA) (CAS Reg. No. 145006-56-0.) when used as a pesticide inert ingredient (adjuvant and surfactant) in pesticide formulations under 40 CFR 180.910 and 180.930. The petitioner believes no analytical method is needed because it is not required for an exemption from the requirement of a tolerance. Contact: RD.

5. PP IN-11450. (EPA-HQ-OPP-2021-0190). Spring Regulatory Sciences, 6620 Cypresswood Dr., Suite 250, Spring, TX 77379 on behalf of Sasol Chemicals (USA) LLC, P.O. Box 18300, Greensboro, NC 27419, requests to establish an exemption from the requirement of a tolerance for residues of paraffin waxes and hydrocarbon waxes (CAS Reg. No. 8002-74-2), oxidized paraffin waxes and hydrocarbon waxes (CAS Reg. No. 68153-22-0) and oxidized paraffin waxes and hydrocarbon, lithium salts (CAS Reg. No. 68649-48-9) when used as a pesticide inert ingredient (flow aid, surface protectant, binder, carrier, coating agent or adjuvant) in pesticide formulations under 40 CFR 180.910, 180.930, and 180.940(a). The petitioner believes no analytical method is needed because it is not required for an exemption from the requirement of a tolerance. Contact: RD.

6. PP IN-11460. (EPA-HQ-OPP-2021-0184). Celanese Ltd, 222 W Las Colinas Blvd., Suite 900N, Irving, TX 75039 requests to establish an exemption from the requirement of a tolerance for residues of 2-Propenoic acid, polymer with ethene, ethenyl acetate and sodium ethenesulfonate (AA E SVS VA) (CAS Reg. No. 429691-44-1) with a minimum number average molecular weight (in amu) of 5,500 when used as a pesticide inert ingredient in pesticide formulations under 40 CFR 180.960. The petitioner believes no analytical method is needed because it is not required for an exemption from the requirement of a tolerance. Contact: RD.

7. PP IN-11470. (EPA-HQ-OPP-2021-0183). Croda, Inc., 300-A Columbus Circle, Edison, NJ 08837 requests to establish an exemption from the requirement of a tolerance for residues of poly (oxy-1,2-ethanediyl),α-(2-methyl-1-oxo-2-propenyl)- ω-methoxy- (CAS Reg. No. 26915-72-0) with a minimum number average molecular weight (in amu) of 1,200 when used as a pesticide inert ingredient in pesticide formulations under 40 CFR 180.960. The petitioner believes no analytical method is needed because it is not required for an exemption from the requirement of a tolerance. Contact: RD.

8. PP IN-11484. (EPA-HQ-OPP-2021-0138). Exponent, Inc., 1150 Connecticut Ave. NW, Suite 1100, Washington, DC 20036 on behalf of DDP Specialty Electronic Materials US, Inc., (400 Arcola Road, Collegeville, PA 19426) requests to establish an exemption from the requirement of a tolerance for residues of cellulose, ethyl ether (CAS RN 9004-57-3) with a minimum number average molecular weight (in amu) of 13,000 Daltons when used as a pesticide inert ingredient in pesticide formulations under 40 CFR 180.960. The petitioner believes no analytical method is needed because it is not required for an exemption from the requirement of a tolerance. Contact: RD.

9. PP IN-11496. (EPA-HQ-OPP-2021-0155). Ag-Chem Consulting LLC, 12644 Chapel Rd., Clifton, VA 20124 on behalf of Corbet Scientific LLC, (Route 100, Briarcliff Manor, NY 10510) requests to establish an exemption from the requirement of a tolerance for residues of C10-23 alkyl group-containing alkali-soluble acrylic emulsion polymer (CAS No. 174127-24-3) with a minimum number average molecular weight (in amu) of 29,000 Daltons when used as a pesticide inert ingredient in pesticide formulations under 40 CFR 180.960. The petitioner believes no analytical method is needed because it is not required for an exemption from the requirement of a tolerance. Contact: RD.

10. PP IN-11513. (EPA-HQ-OPP-2021-0194). Spring Regulatory Sciences, 6620 Cypresswood Dr., Suite 250, Spring, TX 77379 on behalf of Nouryon Chemicals LLC, requests to amend the exemption from the requirement of a tolerance for α-Alkyl-ω-hydroxypoly (oxypropylene) and/or poly (oxyethylene) polymers where the alkyl chain contains a minimum of six carbons under 40 CFR 180.910, 180.930, 180.940(a) and 180.960 to add Oxirane, 2-methyl-, polymer with oxirane, mono-C9-11-isoalkyl ethers, C10-rich, phosphates, potassium salts (CAS Reg. No. 2275654-37-8). The petitioner believes no analytical method is needed because it is not required for an exemption from the requirement of a tolerance. Contact: RD.

D. New Tolerance Exemptions for Non-Inerts (Except PIPS)

1. PP 1F8895. (EPA-HQ-OPP-2021-0157). Biotalys NV, Technologiepark 94, 9052 Ghent, Belgium (c/o SciReg, Inc., 12733 Director's Loop, Woodbridge, VA 22192), requests to establish an exemption from the requirement of a tolerance in 40 CFR part 180 for residues of the fungicide ASFBIOF01-02 in or on all food commodities when used for preharvest and postharvest disease control in accordance with good agricultural practices. The petitioner believes no analytical method is needed because the requirement is not applicable. Contact: BPPD.

2. PP 0F8823. (EPA-HQ-OPP-2020-0481). NewLeaf Symbiotics, 1005 North Warson Rd., Ste. 102, St. Louis, MO 63132, requests to establish an exemption from the requirement of a tolerance in 40 CFR part 180 for residues of the fungicide Methylorubrum populi strain NLS0089 in or on food commodities. The petitioner believes no analytical method is needed because it is expected that, when used as proposed, Methylorubrum populi strain NLS0089 would not result in residues that are of toxicological concern. Contact: BPPD.

3. PP 0F8844. (EPA-HQ-OPP-2020-0736). Chr. Hansens Laboratory Inc., 9015 W Maple St., Milwaukee, WI 53214, requests to establish an exemption from the requirement of a tolerance in 40 CFR part 180 for residues of the fungicide and nematicide Bacillus subtilis strain CH3000 in or on all food commodities. The petitioner believes no analytical method is needed because it is not applicable. Contact: BPPD.

4. PP 0F8843. (EPA-HQ-OPP-2020-0737). Chr. Hansens Laboratory Inc., 9015 W Maple St., Milwaukee, WI 53214, requests to establish an exemption from the requirement of a tolerance in 40 CFR part 180 for residues of the fungicide and nematicide Bacillus paralicheniformis strain CH2970 in or on all food commodities. The petitioner believes no analytical method is needed because it is not applicable. Contact: BPPD.

E. New Tolerances for Non-Inerts

1. PP 0E8871. (EPA-HQ-OPP-2021-0045). The Interregional Research Project Number 4 (IR-4), IR-4 Project Headquarters, Rutgers, The State University of New Jersey, 500 College Road East, Suite 201 W, Princeton, NJ 08450, requests to establish tolerances in 40 CFR 180.622 for residues of the fungicide ethaboxam, (N-(cyano-2-thienylmethyl)-4-ethyl-2-(ethylamino)-5-thiazolecarboxamide) in or on Brassica, leafy greens, subgroup 4-16B at 7 parts per million (ppm) and Vegetable, Brassica, head and stem, group 5-16 at 3 ppm. The “Independent Laboratory Validation of Method RM-49C, Determination of Ethaboxam in Crops” is used to measure and evaluate the chemical Contact: RD.

2. PP 9F8817. (EPA-HQ-OPP-2021-0066). Syngenta Crop Protection, LLC, P.O. Box 18300, Greensboro, NC 27419, requests to establish a tolerance in 40 CFR part 180 for residues of the insecticide emamectin benzoate, 4′-epi-methylamino-4′-deoxyavermectin B1 benzoate (a mixture of a minimum of 90% 4′-epi-methylamino-4′-deoxyavermectin B1a and a maximum of 10% 4′-epi-methlyamino-4′deoxyavermectin B1b benzoate), and its metabolites 8,9 isomer of the B1a and B1b component of the parent insecticide in or on the raw agricultural commodity soybeans at 0.01 parts per million (ppm). The HPLC-fluorescence method is used to measure and evaluate the chemical emamectin benzoate. Contact: RD.

Authority: 21 U.S.C. 346a.

Dated: March 10, 2021.
Delores Barber,
Director, Information Technology and Resources Management Division, Office of Program Support.

[FR Doc. 2021-05692 Filed 3-19-21; 8:45 am]

BILLING CODE 6560-50-P